TENNESSEE VALLEY AUTHORITY

Guntersville Reservoir Land Management Plan, Jackson and Marshall Counties, Alabama and Marion County, TN

AGENCY: Tennessee Valley Authority (TVA).

ACTION: Issuance of record of decision.

SUMMARY: This notice is provided in accordance with the Council on Environmental Quality's regulations (40 CFR parts 1500 to 1508) and TVA's procedures implementing the National Environmental Policy Act. TVA has updated its 1983 land management plan for 40,236 acres of TVA-managed land on Guntersville Reservoir in Alabama and Tennessee. TVA will use the plan to guide land use approvals, private water-use facility permitting, and resource management decisions. On September 19, 2001, the TVA Board of Directors decided to adopt the preferred alternative (Alternative B3, Blended Alternative) identified in the Final Environmental Impact Statement (EIS) and Land Management Plan, Guntersville Reservoir. A Notice of Availability of the Final EIS was published in the Federal Register on August 11, 2001. Under the adopted land plan, TVA has allocated undeveloped lands for public recreation and natural resource conservation, and has also been responsive to local requests for use of TVA lands for water access and community development. Of the 40,236 acres of TVA lands on the reservoir which are available for allocation, 37,662 acres would be allocated to resource conservation, sensitive resource management, TVA project operation, or dispersed recreation uses; 1,704 acres would be allocated for developed recreation uses such as marinas, campgrounds, parks, and boat ramps; 543 acres would be allocated for residential lake access, and 327 acres for industrial access or commercial uses.

FOR FURTHER INFORMATION CONTACT: Harold M. Draper, NEPA Specialist, Environmental Policy & Planning, Tennessee Valley Authority, 400 West Summit Hill Drive, WT 8C, Knoxville, Tennessee 37902-1499; telephone (865) 632-6889 or e-mail hmdraper@tva.gov.

SUPPLEMENTARY INFORMATION: Guntersville Reservoir is a 76-mile long reservoir completed in 1939. Although 109,671 acres were acquired for construction of the reservoir, 56,300 are covered by water. Subsequent transfers of land by TVA for economic, industrial, residential, or public recreation development have resulted in a current balance of 40,236 acres of TVA public land above normal summer pool elevation of 595 mean sea level. TVA first announced its proposal to update its 1983 land management plan in 2000. Meetings were held to inform the public of the land allocation plan update and to solicit input on March 20, 2000 in South Pittsburgh, Tennessee; March 21, 2000 in Scottsboro Alabama; and March 23, 2000 in Guntersville, Alabama. These meetings were attended by 112 people. In addition, written comments were invited through a news release, newspaper notices, and a web sit notice. Subsequent to the scoping meetings, TVA determined that the development of an EIS would allow a better understanding of the impacts of the alternatives. TVA published a Notice of Intent to Prepare an EIS on December 20, 2000 (Federal Register Vol. 65, page 79912). During the scoping period, commenters expressed a desire for more environmental protection and discussed how they valued the scenic beauty and setting of the reservoir. In addition, 13 external proposals were received for use of TVA lands along the reservoir. These proposals were from local governments and adjacent residents requesting additional recreational or industrial access uses. TVA made an effort to identify parcels of land with sensitive resources and identified tracts that should be managed for protection of these resources. In addition, TVA used the proposals received to develop alternatives for public review in the draft EIS (DEIS), which was published in April 2001. A Notice of Availability (NOA) for the DEIS appeared in the Federal Register on May 4, 2001.

In addition to written materials, additional information on the proposals and other aspects of the DEIS was available to the public in three public meetings held in South Pittsburg, Tennessee (May 24, 2001), Scottsboro, Alabama (May 29, 2001) and Guntersville, Alabama (May 31, 2001). Approximately 550 comments were received on the DEIS. These comments primarily related to recommendations for proposed uses of TVA land. Numerous comments and extensive public discussions took place regarding the use of several of the parcels. These discussions were especially focused on parcel 26a, adjacent to the Conners Island Industrial Park; parcel 40, proposed for a Guntersville Airport expansion; parcel 200a, proposed for a South Sauty Creek commercial recreation development; and parcel 257 in the City of Guntersville, which attracted three competing proposals. In the Final EIS (FEIS), TVA developed an alternative that would fully or partially zone parcels of land to accommodate 11 of the 13 initial requests. In addition, TVA received public suggestions for changes on other parcels. After considering all comments, the Final EIS was completed and distributed to commenting agencies and the public. A NOA for the Final EIS was published in the Federal Register on August 11, 2001.

Alternatives Considered

TVA initially considered three alternatives, including no action, for allocation of Guntersville Reservoir lands. The action alternatives were characterized as Alternative B1, “Balanced Development and Recreation,” and Alternative B2, “Balanced Development and Conservation.” Alternative B1 accommodated use requests and allocation changes for 13 parcels, while Alternative B2 did not accommodate allocation changes requests and instead allocated these lands to conservation-oriented uses or retained the lands in their previous designation under the 1983 plan. In response to public comments on the DEIS, TVA developed a fourth alternative, designated Alternative B3, or “Blended Alternative.” This alternative was designed to provide zone allocations which partially accommodate the 13 requests, and make other adjustments in response to public comments.

Under Alternative A, the No Action Alternative, TVA would not revise the 1983 allocation plan. Proposed land use requests received from external applicants or internal TVA interests would be evaluated for consistency with the 1983 plan. Requested land uses that are consistent would be approved or denied based on a review of potential environmental impacts and other administrative considerations. If the request is not consistent with the designated land use, and TVA staff believe the proposal has merit, then the TVA Board of Directors would be asked to amend the plan and change the allocation.

The 1983 plan used 16 allocation categories to allocate 150 parcels (32,584 acres) of TVA land. Residential shoreline and other shoreline strips were not included in the allocations. In addition, the Murphy Hill coal gasification plant site and the Honeycomb Quarry Cave limestone quarry were not allocated. Many parcels in the 1983 plan were designated with multiple allocation tags, which means that they could be considered for a wide range of uses, with a wide range of resulting environmental consequences. Despite this uncertainty, TVA estimates that if the existing plan were used as a guide, 89 percent of reservoir lands would be used for resource protection or natural resource management, 19 percent would be used for industrial or other developed uses, and 13 percent would be used for recreation development. As explained in the EIS, the above figures total greater than 100 percent because certain parcels have multiple allocation tags under the 1983 plan.

Under Alternative B1, Balanced Development and Recreation, 80 percent of project lands would be allocated to environmental protection and natural resource management uses, 13 percent would be allocated for developed uses or industrial uses, 6 percent for recreation development, and 1 percent for residential access. Tracts would be allocated to accommodate a Guntersville Airport expansion, 9 new recreational development proposals, and 3 new commercial or industrial proposals.

Under Alternative B2, Balanced Development and Conservation, 82 percent of project lands would be allocated to environmental protection and natural resource management uses, 13 percent for developed uses or industrial uses, 4 percent for recreation development, and 1 percent for residential access. Zone allocations for recreational, commercial or industrial proposals, or the airport expansion under Alternative B1 would not be accommodated, and the tracts would stay in their existing allocation or be allocated to zone 4, natural resource conservation.

Alternative B3, Blended Alternative, was developed in response to public comments on the DEIS. Approximately 81 percent of project lands would be allocated to environmental protection and natural resource management uses, 14 percent for developed uses or industrial uses, 4 percent for recreation development, and 1 percent for residential access. Alternative B3 contains a mix of allocations from Alternatives B1 and B2 and attempts to address, respond to, or resolve suggestions made during public review of the DEIS. In some cases, parcel allocation revisions were made, or special commitments related to parcels have been included. In general, Alternative B3 differs from Alternative B1 in that approximately 600 acres would be retained in buffers or natural resource management zones. Adjacent human communities would be buffered from visual and other impacts of parcel development. Alternative B3 was designated as the TVA preferred alternative in the FEIS.

The EIS considered the environmental consequences of the alternatives on a wide variety of environmental resources. Under any alternative, sensitive resources such as endangered and threatened federal and state-listed species, cultural resources, and wetlands would be protected. Adoption of Alternative B3 would balance the competing demands of development and conservation. Development activities would have the potential for adverse environmental impacts. However, through the inclusion of environmental safeguards to address water quality, visual buffers, and wetland protection, and through resource avoidance and parcel-specific protection measures, these impacts would be minimized.

Because the potential effects on historic properties cannot be fully determined prior to implementation of the land plan, TVA will use a phased identification and evaluation process as allowed under 36 CFR 800.4(b)(2) to fulfill its obligations under Section 106 of the National Historic Preservation Act. Letters from the Alabama and Tennessee State Historic Preservation Officers (SHPOs) dated September 7, 2001 and August 16, 2001, respectively, concur with this phased approach. Further, in view of the regional scope of this project, TVA has initiated efforts to prepare a Programmatic Agreement (PA) consistent with the regulations of the Advisory Council on Historic Preservation (ACHP) implementing the National Historic Preservation Act. The PA includes provisions for monitoring of reservoir shorelines. A PA for the implementation of reservoir land management plans in Alabama is being reviewed by all requisite parties. ACHP, TVA, the Alabama SHPO, the Eastern Band of Cherokee Indians, and the Chickasaw Nation are proposed signatories in the PA, and the Alabama Indian Affairs Commission is a concurring party. A PA is also under development for reservoir lands in the state of Tennessee, through coordination with the Tennessee SHPO, ACHP, and consulting parties. These measures ensure that the effects of the Guntersville Reservoir Land Management Plan on historic properties have been taken into account.

Response to Comments

Appendix E of the Final EIS contains summaries of and responses to the comments TVA received during the Draft EIS process. TVA received comments from 550 individuals and organizations on the DEIS. As indicated above, TVA believes that the open public process and discussion on a number of community proposals substantially enhanced its decision making. TVA also received comments on the FEIS from EPA, Alabama Historical Commission, and Tennessee Historical Commission. EPA appreciated that timber harvesting, an allowable activity in Zone 4, was redefined to include “timber management to promote forest health.” They requested that the ROD offer management options for unit plans. Further, EPA was concerned that Alternative B3 favored development proposals and was closer to Alternative B1 than the EPA-favored Alternative B2. EPA also provided specific comments on parcel allocations. EPA expressed concerns about industrial and commercial development such as the proposed Guntersville Airport expansion, industrial park, interchange development and industrial site, and also pointed out that marinas, boat ramps and campgrounds proposed to be allowed under Alternative B3 could have reservoir water quality impacts. For parcel 257, EPA expressed a preference to allocate the parcel to for zone 4 and stated that Alternative B3 would allow partial development of the tract by allowing the siting of a headquarters for United Cherokee Intertribal.

TVA appreciates the EPA comments and will emphasize water quality considerations during its land use and Section 26a decision making processes for facilities on Guntersville Reservoir. Although TVA has attempted to accommodate a number of development proposals, these are typically of limited area and are often for water access for adjacent private landowners. TVA will use site-specific reviews to incorporate additional environmental protection, including water quality protection measures, into these proposals. Typical forest management options for unit plans (zones 3 and 4) on Guntersville Reservoir are expected to include some, but not all of, the following types of activities:

• Pine thinning and prescribed burning to maintain healthy pine stands

• Salvage activities to control southern pine beetle infestations

• Creation of brush piles for wildlife habitat

• Daylighting of road shoulders and selected other areas by selective timber removal to create conditions favorable for grasses and forbs preferred by wildlife species, and to enhance aesthetics

• Planting of areas adjacent to the reservoir with appropriate species

• Treatment of invasive exotic species infestations

• Timber stand improvements to encourage oak regeneration and growth

• Harvesting mature pine stands and allow stands to regenerate

• Harvests of limited size over a period of years to create a mosaic of hardwood forest cover types and age classes

• Controlled burn implementation during late winter to increase advanced oak regeneration

All of these activities would be oriented toward maintenance and enhancement of forest health on public lands. Other public use management and wildlife management activities would be conducted to preserve and enhance forest ecosystem health and productivity. Each unit plan would be subjected to agency and public review, and site-specific environmental safeguards incorporated into the proposed management activities. With regard to Parcel 257, TVA did not zone this parcel to accommodate the United Cherokee Intertribal request for a headquarters and interpretive center. However, TVA did decide to allow use of a limited area for an annual tribal conference and ceremonial event (pow-wow).

In other agency comments, the Tennessee Historical Commission concurred that phased compliance is an appropriate strategy, and requested that TVA submit all historic property survey reports to the office for review and comment. In accordance with standard Section 106 compliance procedures, TVA will do this for all properties in Tennessee. The Alabama Historical Commission indicated that they preferred Alternative B2, but that they could agree with Alternative B3 provided that a phase II archaeological investigation be conducted for every site which is potentially eligible for the National Register of Historic Places. TVA will conduct archaeological and historic structure surveys to identify historic properties, and will submit phase II proposals to the Alabama Historical Commission for approval prior to testing for projects in Alabama. TVA also received two comments from adjoining landowners on the Final EIS that were not made on the draft EIS questioning some proposed allocation decisions. An adjoining landowner objected to a buffer zone that TVA proposed to establish between a recreational development zone (proposed for a campground) and a subdivision. The landowner felt that the buffer zone would be subject to abuse from uncontrolled camping and motorized recreation. A second landowner requested that lands classified as Zone 4 because of their incorporation into a state wildlife management area be changed to zone 7 to allow residential access. Because the land in question has historically been used as part of the Mud Creek Wildlife Management Area and the wildlife management area easement with the state is proposed for extension, TVA plans to leave this property in zone 4, but to recognize the residential access rights for a 1.7-acre parcel. As part of any future conveyance to the state for wildlife management purposes, TVA would include both a general and specific reservation acknowledging these residential access rights.

Decision

The TVA Board decided to adopt the Guntersville Reservoir Land Management Plan as described in Alternative B3 on September 19, 2001. TVA believes that Alternative B3 responds to community development and recreational development needs on Guntersville Reservoir, but also recognizes and preserves the aesthetic and sensitive resources which make the reservoir unique. Like the other alternatives considered, Alternative B3 sets aside parcels containing sensitive resources and habitats in the Sensitive Resource Protection and Natural Resource Conservation categories. For lands where TVA proposes to consider development proposals, following site-specific review of development plans, Alternative B3 adopts commitments that would further minimize the potential for adverse impacts to the environment. These commitments are listed below, under Environmental Commitments.

Environmentally Preferable Alternative

TVA has concluded that Alternative B2, which would not grant recreational and industrial access requests on 13 parcels, is the environmentally preferable alternative. However, TVA's responsibilities for unified development of the Tennessee River system and adjoining properties encourage the use of portions of the reservoir lands to foster the economic development of the area. Local governments and a number of people commenting also support these projects. TVA believes that Alternative B3 helps to meet the multiple objectives of the Guntersville project, and would result in substantially better environmental protection than previous shoreline development practices. Further the environmental impacts of TVA's preferred alternative would be less than Alternative B1 and the No Action Alternative.

Environmental Commitments

The land plan envisioned in Alternative B3 advances TVA's commitment to resource stewardship and habitat protection through strong conservation approaches. Alternative B3 was formulated using environmentally protective measures. Some of these measures include use of a sensitive resource protection zone and incorporation of buffers between development proposals and adjoining landowners. In addition, TVA is adopting the following measures to minimize environmental impacts:

• Wetlands will be avoided on residential access properties on parcels 12, 69, and 22 and any portion of parcel 26a and 165 allocated for recreational development.

• Recreational development on parcels 143, 154a, 159 and 168 will be designed to avoid historic properties and designed to enhance their interpretation.

• Agricultural licensing on Parcels 26a, 45, 121, 124, 132, and 260 will include buffers to avoid impacts to the reservoir and wetlands.

• All land disturbing activities shall be conducted in accordance with Best Management Practices as defined by Section 208 of the Clean Water Act and implementing regulations to control erosion and sedimentation. Forest management activities will be conducted in accordance with practices prescribed for forestry. Best Management Practices for agriculture, including maintenance of vegetative buffers, will be included in agricultural licenses.

• Visual and water quality enhancement buffers, between 50 feet and 100 feet wide, will be provided to screen timber harvest areas from public thoroughfares and shorelines and to minimize the potential for sediments or other nonpoint source pollutants to enter Guntersville Reservoir.

• Controlled burns will be conducted in accordance with the open burning regulations of the appropriate state.

• On parcel 2, TVA will place special emphasis on visual analysis during consideration of any management activities.

With the implementation of the above environmental protection measures, TVA has determined that adverse environmental impacts of future development proposals on the reservoir would be substantially reduced. These protective measures represent all of the practicable measures to avoid or minimize environmental harm that are associated with this alternative.

As TVA implements the Guntersville Reservoir Land Management Plan, the agency will continue to work with all affected interests to promote environmentally sound stewardship of public lands.

Dated: October 29, 2001.
Kathryn J. Jackson,
Executive Vice President, River System Operations and Environment.

[FR Doc. 02-1166 Filed 1-17-02; 8:45 am]

BILLING CODE 8120-08-M